FEDERAL TRADE COMMISSION

Agency Information Collection Activities; Proposed Collection; Comment Request; Extension

AGENCY: Federal Trade Commission.

ACTION: Notice.

SUMMARY: The Federal Trade Commission (“FTC” or “Commission”) requests that the Office of Management and Budget (“OMB”) extend for three years the current Paperwork Reduction Act (“PRA”) clearances for information collection requirements contained in four consumer financial regulations enforced by the Commission. Those clearances expire on November 30, 2024.

DATES: Comments must be filed by December 23, 2024.

ADDRESSES: Interested parties may file a comment online or on paper, by following the instructions in the Request for Comment part of the SUPPLEMENTARY INFORMATION section below. Written comments and recommendations for the proposed information collection should be sent within 30 days of publication of this notice to www.reginfo.gov/public/do/PRAMain. Find this particular information collection by selecting “Currently under 30-day Review—Open for Public Comments” or by using the search function. The reginfo.gov web link is a United States Government website produced by the Office of Management and Budget (OMB) and the General Services Administration (GSA). Under PRA requirements, OMB's Office of Information and Regulatory Affairs (OIRA) reviews Federal information collections.

FOR FURTHER INFORMATION CONTACT: Carole Reynolds (creynolds@ftc.gov) or Stephanie Rosenthal (srosenthal@ftc.gov), Attorneys, Division of Financial Practices, Bureau of Consumer Protection, Federal Trade Commission, 600 Pennsylvania Ave. NW, Washington, DC 20580, (202) 326-3224.

SUPPLEMENTARY INFORMATION: The four regulations covered by this notice are:

(1) Regulations promulgated under the Equal Credit Opportunity Act, 15 U.S.C. 1691 et seq. (“ECOA”) (“Regulation B”) (OMB Control Number: 3084-0087);

(2) Regulations promulgated under the Electronic Fund Transfer Act, 15 U.S.C. 1693 et seq. (“EFTA”) (“Regulation E”) (OMB Control Number: 3084-0085);

(3) Regulations promulgated under the Consumer Leasing Act, 15 U.S.C. 1667 et seq. (“CLA”) (“Regulation M”) (OMB Control Number: 3084-0086); and

(4) Regulations promulgated under the Truth-In-Lending Act, 15 U.S.C. 1601 et seq. (“TILA”) (“Regulation Z”) (OMB Control Number: 3084-0088).

Type of Review: Extension without change of currently approved collection, except for new Regulation B requirements, which derive from statutory amendments.

Affected Public: Private Sector: Businesses and other for-profit entities.

Abstract: Under the Dodd-Frank Wall Street Reform and Consumer Protection Act (“Dodd-Frank Act”), Public Law 111-203, 124 Stat. 1376 (2010), almost all rulemaking authority for the ECOA, EFTA, CLA, and TILA transferred from the Board of Governors of the Federal Reserve System (“Board”) to the Consumer Financial Protection Bureau (“CFPB”) on July 21, 2011 (“transfer date”). To implement this transferred authority, the CFPB published new regulations in 12 CFR part 1002 (Regulation B), 12 CFR part 1005 (Regulation E), 12 CFR part 1013 (Regulation M), and 12 CFR part 1026 (Regulation Z) for those entities under its rulemaking jurisdiction.¹ Although the Dodd-Frank Act transferred most rulemaking authority under ECOA, EFTA, CLA, and TILA to the CFPB, the Board retained rulemaking authority for certain motor vehicle dealers ² under all of these statutes and also for certain interchange-related requirements under EFTA.³

¹ 12 CFR part 1002 (Reg. B) (81 FR 25323, Apr. 28, 2016); 12 CFR part 1005 (Reg. E) (81 FR 25323, Apr. 28, 2016); 12 CFR part 1013 (Reg. M) (81 FR 25323, Apr. 28, 2016); 12 CFR part 1026 (Reg. Z) (81 FR 25323, Apr. 28, 2016).

² Generally, these are dealers “predominantly engaged in the sale and servicing of motor vehicles, the leasing and servicing of motor vehicles, or both.” See Dodd-Frank Act, sec. 1029(a), (c), 12 U.S.C. 5519(a), (c).

³ See Dodd-Frank Act, sec. 1075, 15 U.S.C. 1693 (these requirements are implemented through Board Regulation II, 12 CFR part 235, rather than EFTA's implementing Regulation E).

As a result of the Dodd-Frank Act, the FTC and the CFPB generally share the authority to enforce Regulations B, E, M, and Z for entities for which the FTC had enforcement authority before the Act, except for certain motor vehicle dealers.⁴ Because of this shared enforcement jurisdiction, the two agencies have divided the FTC's previously-cleared PRA burden estimates between them,⁵ except that the FTC has assumed all of the burden estimates associated with motor vehicle dealers ⁶ and state-chartered credit unions, and has added estimates for the CFPB's new requirements under Regulation B. The division of PRA burden hours not attributable to motor vehicle dealers and state-chartered credit unions is reflected in the CFPB's PRA clearance requests to OMB, as well as in the FTC's burden estimates below.

⁴ The FTC's enforcement authority includes state-chartered credit unions; other federal agencies also have various enforcement authority over credit unions. For example, for large credit unions (exceeding $10 billion in assets), the CFPB has certain authority. The National Credit Union Administration also has certain authority for state-chartered federally insured credit unions, and it additionally provides insurance for certain state-chartered credit unions through the National Credit Union Share Insurance Fund and examines credit unions for various purposes. There are approximately thirteen state-chartered credit unions exceeding $10 billion in assets, and the CFPB assumes PRA burden for those entities. As of the fourth quarter of 2023, there were approximately 1,936 state-chartered credit unions with federal insurance; there also have been an estimated 112 or more which were privately insured, and an estimated 100 or more in Puerto Rico which were insured by a quasi-governmental entity. Because of the difficulty in parsing out PRA burden for such entities in view of the overlapping authority, the FTC's figures include PRA burden for all state-chartered credit unions, unless otherwise noted. However, in view of fluctuations that began due to COVID-19 and have continued and to avoid undercounting, we have retained the prior estimate of 2,300 state-chartered credit unions, unless otherwise stated. As noted above, the CFPB's figures as to state-chartered credit unions include burden for those entities exceeding $10 billion in assets. See generally Dodd-Frank Act, secs. 1061, 1025, 1026. This attribution does not change actual enforcement authority. We also have retained the prior burden hours generally in the estimates below, in view of these considerations, adding only those applicable for new requirements issued by the CFPB for Regulation B, issued in implementation of the Dodd-Frank Act, sec. 1071, amending the Equal Credit Opportunity Act, codified at 15 U.S.C. 1691c-2, discussed below.

⁵ The CFPB also factors into its burden estimates respondents over which it has jurisdiction but the FTC does not.

⁶ See Dodd-Frank Act sec. 1029, 12 U.S.C. 5519(a), as to motor vehicle dealers, as limited by subsection (b). Subsection (b) does not preclude CFPB regulatory oversight regarding, among others, businesses that extend retail credit or retail leases for motor vehicles in which the credit or lease offered is provided directly from those businesses, rather than unaffiliated third parties, to consumers. It is not practicable, however, for PRA purposes, to estimate the portion of dealers that engage in one form of financing versus another (and that would or would not be subject to CFPB oversight). Thus, FTC staff's PRA burden analysis reflects a general estimated volume of motor vehicle dealers. This attribution does not change actual enforcement authority.

Pursuant to the Dodd-Frank Act, the FTC generally has sole authority to enforce Regulations B, E, M, and Z regarding certain motor vehicle dealers predominantly engaged in the sale and servicing of motor vehicles, the leasing and servicing of motor vehicles, or both, that, among other things, assign their contracts to unaffiliated third parties.⁷ Because the FTC has exclusive jurisdiction to enforce these rules for such motor vehicle dealers and retains its concurrent authority with the CFPB for other types of motor vehicle dealers, and in view of the different types of motor vehicle dealers, the FTC retains the entire PRA burden for motor vehicle dealers in the burden estimates below.

⁷ See Dodd-Frank Act, sec. 1029, 12 U.S.C. 5519(a), (c).

1. Regulation B

The ECOA prohibits discrimination in the extension of credit. Regulation B implements the ECOA, establishing disclosure requirements to assist customers in understanding their rights under the ECOA and recordkeeping requirements to assist agencies in enforcement. Regulation B applies to retailers, mortgage lenders, mortgage brokers, finance companies, and diverse others. In 2023, the CFPB amended Regulation B, to create subparts A and B, in implementing amendments mandated by section 1071 of the Dodd Frank Act, 12 U.S.C. 1691c-2, pertaining to small business lending, including for small businesses owned by women or minorities.⁸ As a result, Regulation B, subpart A, now contains the prior Regulation B requirements; Regulation B, subpart B, contains the new small business lending requirements.⁹ The total burden hours and labor costs for Regulation B are shown below.

⁸ See CFPB, Final Rule, Small Business Lending Under the Equal Credit Opportunity Act (Regulation B) (CFPB Rule), 88 FR 35150 (May 31, 2023), available at https://www.govinfo.gov/content/pkg/FR-2023-05-31/pdf/2023-07230.pdf. The CFPB generally refers to these requirements as those pertaining to “small business lending.” See CFPB Rule, 88 FR at 35150. That term is also used herein.

The Federal Reserve Board has not issued its related rule for these requirements covering certain motor vehicle dealers pursuant to the Dodd Frank Act, sec. 1029, 12 U.S.C. 5519. In May 2024, following the U.S. Supreme Court ruling in Consumer Fin. Protection Bureau v. Community Fin. Servs. Ass'n of Am., Ltd. (CFPB v. CFSA), No. 22-448, 2024 WL 2193873 (U.S.S.C. May 16, 2024), available at https://www.supremecourt.gov/opinions/23pdf/22-448_o7jp.pdf, the CFPB issued informal guidance extending the compliance dates for the small business lending rule and indicated it would issue an interim final rule; on June 25, 2024, the CFPB issued an interim final rule, extending the compliance dates accordingly. See CFPB, Small Business Lending Rulemaking, available at https://www.consumerfinance.gov/1071-rule/; 89 FR 55024 (July 3, 2024), available at https://www.govinfo.gov/content/pkg/FR-2024-07-03/pdf/2024-14396.pdf, corrected, 89 FR 76713 (Sept. 19, 2024), available at https://www.govinfo.gov/content/pkg/FR-2024-09-19/pdf/2024-21265.pdf. The FTC has hereunder included estimates of burden for these requirements, based on currently available information, including the supplementary information with the CFPB Rule, 88 FR 35150, and its related CFPB Supporting Statement.

⁹ In implementing Regulation B, subpart B, the CFPB noted that merchant cash advances are covered under that part, and are “credit” subject to Regulation B (and ECOA). See, e.g., 88 FR 35223. When applicable, these entities (to the extent they are “creditors” under subpart A) also apparently would be subject to, for example, the requirement to provide notices whenever they take adverse action, such as denial of a credit application. The CFPB estimates about 100 merchant cash advance providers as active in the small business lending market. See CFPB Rule, 88 FR 35164. The FTC estimates below cover those providers as “creditors” for subpart A and re applicable transactions. As noted above, in view of fluctuations that occurred with COVID-19 and have continued (and with respect to which the Commission did not reduce its prior burden estimates to avoid undercounting, despite varied market contractions and shifts), these entities are included within the burden estimates below.

Estimated Annual Burden Hours: 3,877,492 hours (Total).

Recordkeeping: 1,296,378 hours.

Disclosures and Reporting: 2,581,114 hours.

Estimated Annual Labor Costs: $159,000,057 (Total).

Recordkeeping: $32,783,491.

Disclosures and Reporting: $126,216,566.

Estimated Annual Non-Labor Costs: A range up to $6 million.¹⁰

¹⁰ The range is due to differences in the diverse covered entities and varied circumstances that can apply. The high end is almost certainly overinclusive as explained further in response #13 (Estimated Capital and Other Non-Labor Costs) on Regulation B's Supporting Statement.

2. Regulation E

The EFTA requires that covered entities provide consumers with accurate disclosure of the costs, terms, and rights relating to electronic fund transfers (“EFTs”) and certain other services. Regulation E implements the EFTA, establishing disclosure and other requirements to aid consumers and recordkeeping requirements to assist agencies with enforcement. It applies to financial institutions, retailers, gift card issuers and others that provide gift cards, service providers, various federal and state agencies offering EFTs, prepaid account entities, and others.

Estimated Annual Burden Hours: Total: 7,435,956 hours.

Recordkeeping: 251,053 hours.

Disclosures: 7,184,903 hours.

Estimated Annual Labor Costs: $363,192,555 (Total).

Recordkeeping: $6,150,791.

Disclosures: $357,041,764.

Estimated Annual Non-Labor Costs: $0.

3. Regulation M

The CLA requires that covered entities provide consumers with accurate disclosure of the costs and terms of leases. Regulation M implements the CLA, establishing disclosure requirements to help consumers comparison shop and understand the terms of leases and recordkeeping requirements. It applies to vehicle lessors (such as auto dealers, independent leasing companies, and manufacturers' captive finance companies), computer lessors (such as computer dealers and other retailers), furniture lessors, various electronic commerce lessors, diverse types of lease advertisers, and others.

Estimated Annual Burden Hours: 101,953 hours (Total).

Recordkeeping: 30,203 hours.

Disclosures: 71,750 hours.

Estimated Annual Labor Costs: $6,535,193 (Total).

Recordkeeping: $1,936,018.

Disclosures: $4,599,175.

Estimated Annual Non-Labor Costs: $0.

4. Regulation Z

The TILA was enacted to foster comparison credit shopping and informed credit decision-making by requiring creditors and others to provide accurate disclosures regarding the costs and terms of credit to consumers. Regulation Z implements the TILA, establishing disclosure requirements to assist consumers and recordkeeping requirements to assist agencies with enforcement. These requirements pertain to open-end and closed-end credit and apply to various types of entities, including mortgage companies; finance companies; auto dealerships; private education loan companies; merchants who extend credit for goods or services; credit advertisers; acquirers of mortgages; and others. Additional requirements also exist in the mortgage area, including for high cost mortgages, higher-priced mortgage loans,¹¹ ability to pay of mortgage consumers, mortgage servicing, loan originators, and certain integrated mortgage disclosures.

¹¹ While Regulation Z also requires the creditor to provide a short written disclosure regarding the appraisal process for higher-priced mortgage loans, the disclosure is provided by the CFPB. As a result, it is not a “collection of information” for PRA purposes (see 5 CFR 1320.3(c)(2)).

Estimated Annual Burden Hours: 8,416,441 (Total).

Recordkeeping: 561,866 hours.

Disclosures: 7,854,575 hours.

Estimated Annual Labor Costs: $397,863,549 (Total).

Recordkeeping: $13,765,727.

Disclosures: $384,097,822.

Estimated Annual Non-Labor Costs: $0.

Request for Comment: On August 1, 2024, the Commission sought comment on the information collection requirements associated with Regulations B, E, M, and Z. 89 FR 62736 (Aug. 1, 2024). Eight comments were received. One comment supported the proposal, and stated that extension of clearance for these requirements and documentation of compliance is essential for the protection of consumers. Seven comments were unrelated to the proposal (and pertained to other issues, such as antitrust topics). Pursuant to the OMB regulations, 5 CFR part 1320, that implement the PRA, 44 U.S.C. 3501 et seq., the FTC is providing this second opportunity for public comment while seeking OMB approval to renew the pre-existing clearance for the Rule.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2024-27458 Filed 11-21-24; 8:45 am]

BILLING CODE 6750-01-P